POSTAL SERVICE

39 CFR Part 111

Delivery of Mail to a Commercial Mail Receiving Agency

AGENCY: Postal Service.

ACTION: Proposed rule with request for comments.

SUMMARY: The purpose of this proposal is to clarify requirements for delivery of an addressee's mail to a commercial mail receiving agency (CMRA). The proposal provides for guidelines to distinguish when a corporate executive center (CEC) or a part of its operations is considered a commercial mail receiving agency for purposes of these standards.

DATES: Comments must be received on or before March 3, 2000.

ADDRESSES: Written comments should be mailed to Manager, Delivery, U.S. Postal Service, 475 L'Enfant Plaza SW Room 7142, Washington, DC 20260-2802. Copies of all written comments will be available for inspection and photocopying between 9:00 a.m. and 4:00 p.m., Monday through Friday, at the above address.

FOR FURTHER INFORMATION CONTACT: Roy E. Gamble, (202) 268-3197.

SUPPLEMENTARY INFORMATION: On March 25, 1999, the Postal Service published a final rule in the Federal Register adopting revised regulations governing the operation of commercial mail receiving agencies (CMRAs) with an effective date of April 26, 1999. (64 F.R. 14385). The final rule amended sections D042.2.5 through D042.2.7 of the Domestic Mail Manual (DMM) to update and clarify procedures for delivery of an addressee's mail to a CMRA. The rule provided procedures for registration to act as a CMRA; an addressee to request mail delivery to a CMRA; and delivery of the mail to a CMRA. The rule was applicable to all businesses that provide agent mailing services to their customers; that is, receive delivery of mail for others from the Postal Service.

A corporate executive center (CEC) is a business that operates primarily to provide shared private office facilities and business support services to individuals or firms. These CEC customers may also receive mail at the CEC address. CECs also have customers that do not occupy space and use the CEC address primarily to receive mail.

Postal customers have asked the Postal Service to provide guidance when a CEC is considered a CMRA for purposes of postal standards; that is, when it and its customers must comply with rules governing the operation of CMRAs in sections D042.2.5 through D042.2.7 of the DMM. This proposal responds to that request and seeks to clarify and set forth guidelines when a CEC customer must comply with those standards. The proposal provides an objective test, based on the terms of the relationship between the CEC and its customer, to determine whether a customer is considered a “CMRA customer.” The CEC must register as a CMRA and comply with all CMRA regulations if one or more customers receiving mail at its address are considered “CMRA customers.” Each customer considered a “CMRA customer” must comply with the standards set forth in the DMM. Other customers, not considered to be “CMRA customers,” need not comply with these standards. A CEC will receive single point delivery of mail regardless whether its customers are deemed to be receiving CEC or CMRA services.

Although exempt from the notice and comment requirements of the Administrative Procedures Act (5 U.S.C. of 553 (b), (c)) regarding proposed rulemaking by 39 U.S.C. 410(a), the Postal Service invites public comment on the following proposed revisions to the Domestic Mail Manual, incorporated by reference in the Code of Federal Regulations. See CFR 111.1.

List of Subjects in 39 CFR Part 111

Postal Service.

PART 111—[AMENDED]

1. The authority citation for 39 CFR part 111 continues to read as follows:

Authority: 5 U.S.C. 552(a); 39 U.S.C. 101, 401, 403, 404, 3001 3011, 3201-3219, 3403-3406, 3621, 5001.

2. Section D042.2.0 of the Domestic Mail Manual is amended by adding subsection D042.2.8 to read as follows:

D Deposit, Collection, and Delivery

* * * * *

D040 Delivery of Mail

* * * * *

D042 Conditions of Delivery

* * * * *

2.0 DELIVERY TO ADDRESSEE'S AGENT

* * * * *

2.8 CEC DEFINITION

Use the following procedures to distinguish when a corporate executive center (CEC) or part of its operation is a commercial mail receiving agency (CMRA): a. A CEC is a business that operates primarily to provide shared private office facilities and business support services to individuals or firms (customers). CEC customers may also receive mail at the CEC address. These customers will be considered CEC customers if they meet the standards set forth below. Customers who do not meet these standards and who receive mail through the CEC address will be considered CMRA customers and must comply with the CMRA standards. The CEC must register as a CMRA and comply with all CMRA standards if one or more customers receiving mail through its address are considered CMRA customers. A CEC will receive single point delivery of mail regardless of whether its customers are deemed to be receiving CEC or CMRA services.

b. Except as provided in d, a customer receiving mail through the CEC address will be considered a CEC customer under these standards if:

(1) The CEC licenses the customer through a written agreement to use one or more of the offices or workstations within the CEC facility for full-time occupancy; or,

(2) The CEC licenses the customer through a written agreement to use one or more of the office or workstations within the CEC facility regularly each month for the term of the agreement (as defined in c) and the agreement also provides the customer:

(A) Full-time receptionist service during normal business hours,

(B) A listing in the office directory, if available, in the building in which the CEC is located, and

(C) Conference rooms and other business services on demand.

c. A customer shall be deemed to occupy space regularly each month for purposes of b(2) if, under the specific terms of the agreement, the person is charged at least $125 per month for the duration of the agreement for occupancy and related support services.

d. Notwithstanding any other standards, a customer whose agreement provides for mail services only or mail and telephone services only will not be considered a CEC customer (without regard for occupancy or other services that a CEC may provide and bill for on demand).

e. The Postal Service may request from the CEC copies of agreements or any other documents or information needed to determine compliance with these standards. Failure to provide requested documents or information may be a basis for suspending delivery service to the CEC under the procedures set forth in section D042.2.6.h through i for suspending delivery to a CMRA.

* * * * *

[An appropriate amendment to 39 CFR 111.3 to reflect this change will be published if the proposal is adopted.]

Stanley F. Mires,
Chief Counsel, Legislative.

[FR Doc. 00-2138 Filed 2-1-00; 8:45 am]

BILLING CODE 7710-12-U